FEDERAL ELECTION COMMISSION

[Notice 2011-12]

Filing Dates for the Oregon Special Election in the 1st Congressional District

AGENCY: Federal Election Commission.

ACTION: Notice of filing dates for special election.

SUMMARY: Oregon has scheduled elections on November 8, 2011, and January 31, 2012, to fill the U.S. House seat in the 1st Congressional District vacated by Representative David Wu.

Committees required to file reports in connection with the Special Primary Election on November 8, 2011, shall file a 12-day Pre-Primary Report. Committees required to file reports in connection with both the Special Primary and Special General Election on January 31, 2012, shall file a 12-day Pre-Primary Report, a consolidated 12-day Pre-General Report and Year-End Report, and a 30-day Post-General Report.

FOR FURTHER INFORMATION CONTACT: Mr. Greg J. Scott, Information Division, 999 E Street, NW., Washington, DC 20463; Telephone: (202) 694-1100; Toll Free (800) 424-9530.

SUPPLEMENTARY INFORMATION:

Principal Campaign Committees

All principal campaign committees of candidates who participate in the Oregon Special Primary and Special General Elections shall file a 12-day Pre-Primary Report on October 27, 2011; a consolidated 12-day Pre-General and Year-End Report on January 19, 2012; and a 30-day Post-General Report on March 1, 2012. (See chart below for the closing date for each report.)

All principal campaign committees of candidates participating only in the Special Primary Election shall file a 12-day Pre-Primary Report on October 27, 2011. (See chart below for the closing date for each report).

Note that these reports are in addition to the campaign committee's regular quarterly filings. (See chart below for the closing date for each report.)

Unauthorized Committees (PACs and Party Committees)

Political committees filing on a semi-annual basis in 2011 or a quarterly basis in 2012 are subject to special election reporting if they make previously undisclosed contributions or expenditures in connection with the Oregon Special Primary or Special General Election by the close of books for the applicable report(s). (See chart below for the closing date for each report).

Since disclosing financial activity from two different calendar years on one report would conflict with the calendar year aggregation requirements stated in the Commission's disclosure rules, unauthorized committees that trigger the filing of the consolidated Pre-General & Year-End Report will be required to file this report on two separate forms: One form to cover 2011 activity, labeled as the Year-End Report; and the other form to cover only 2012 activity, labeled as the Pre-General Report. Both forms must be filed by January 19, 2012.

Committees filing monthly that make contributions or expenditures in connection with the Oregon Special Primary or General Elections will continue to file according to the monthly reporting schedule.

Additional disclosure information in connection with the Oregon Special Election may be found on the FEC Web site at http://www.fec.gov/info/report_dates.shtml.

Disclosure of Lobbyist Bundling Activity

Campaign committees, party committees and Leadership PACs that are otherwise required to file reports in connection with the special elections must simultaneously file FEC Form 3L if they receive two or more bundled contributions from lobbyists/registrants or lobbyist/registrant PACs that aggregate in excess of the lobbyist bundling disclosure threshold during the special election reporting periods (see charts below for closing date of each period). 11 CFR 104.22(a)(5)(v).

The lobbyist bundling disclosure threshold for calendar year 2011 is $16,200. This threshold amount may change in 2012 based upon the annual cost of living adjustment (COLA). As soon as the adjusted threshold amount is available, the Commission will publish it in the Federal Register and post it on its Web site. 11 CFR 104.22(g) and 110.17(e)(2). For more information on these requirements, see Federal Register Notice 2009-03, 74 FR 7285 (February 17, 2009).

Calendar of Reporting Dates for Oregon Special Election
Report | Closed of books¹ | Reg./cert. & overnight mailing deadline | Filing deadline
Committees Involved in Only the Special Primary (11/08/11) Must File:
Pre-Primary | 10/19/11 | 10/24/11 | 10/27/11
Year-End | 12/31/11 | 01/31/12 | 01/31/12
Committees Involved in Both the Special Primary (11/08/11) and Special General (01/31/12) Must File:
Pre-Primary | 10/19/11 | 10/24/11 | 10/27/11
Pre-General & Year-End ² | 01/11/12 | ³ 01/16/12 | 01/19/12
Post-General | 02/20/12 | 03/01/12 | 03/01/12
April Quarterly | 03/31/12 | 04/15/12 | ⁴04/15/12
Committees Involved in Only the Special General (01/31/12) Must File:
Pre-General & Year-End² | 01/11/12 | ³01/16/12 | 01/19/12
Post-General | 02/20/12 | 03/01/12 | 03/01/12
April Quarterly | 03/31/12 | 04/15/12 | ⁴04/15/12
¹ These dates indicate the end of the reporting period. A reporting period always begins the day after the closing date of the last report filed. If the committee is new and has not previously filed a report, the first report must cover all activity that occurred before the committee registered as a political committee with the Commission up through the close of books for the first report due.
² Committees should file a consolidated Pre-General & Year-End Report by the filing deadline of the Pre-General Report.
³ Notice that the registered/certified & overnight mailing deadline falls on a Federal holiday. The report should be postmarked on or before that date.
⁴ Notice that this filing deadline falls on a weekend. Filing deadlines are not extended when they fall on nonworking days. Accordingly, reports filed by methods other than Registered, Certified or Overnight Mail, or electronically, must be received before the Commission's close of business on the last business day before the deadline.

Dated: August 11, 2011.
On behalf of the Commission.
Cynthia L. Bauerly,
Chair, Federal Election Commission.

[FR Doc. 2011-21036 Filed 8-17-11; 8:45 am]

BILLING CODE 6715-01-P